DEPARTMENT OF COMMERCE

National Oceanic and Atmospheric Administration

RIN 0648-XG350

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Acting Assistant Regional Administrator for Sustainable Fisheries, Greater Atlantic Region, NMFS, has made a preliminary determination that an Exempted Fishing Permit application contains all of the required information and warrants further consideration. This Exempted Fishing Permit would exempt eight commercial fishing vessels from limited access sea scallop regulations in support of a study on seasonal bycatch distribution and optimal scallop meat yield on Georges Bank. Regulations under the Magnuson-Stevens Fishery Conservation and Management Act require publication of this notification to provide interested parties the opportunity to comment on applications for proposed Exempted Fishing Permits.

DATES: Comments must be received on or before August 7, 2018.

ADDRESSES: You may submit written comments by any of the following methods:

• Email: nmfs.gar.efp@noaa.gov. Include in the subject line “DA18-051 CFF Georges Bank Optimization Study EFP.”

• Mail: Michael Pentony, Regional Administrator, NMFS, Greater Atlantic Regional Fisheries Office, 55 Great Republic Drive, Gloucester, MA 01930. Mark the outside of the envelope “DA18-051 CFF Georges Bank Optimization Study EFP.”

FOR FURTHER INFORMATION CONTACT: Shannah Jaburek, Fishery Management Specialist, (978) 282-8456.

SUPPLEMENTARY INFORMATION: Coonamesset Farm Foundation (CFF) submitted an exempted fishing permit (EFP) application in support of a project titled “Optimizing the Georges Bank Scallop Fishery by Maximizing Meat Yield and Minimizing Bycatch,” that has been funded under the 2018 Atlantic Sea Scallop Research Set-Aside (RSA) Program. The project will evaluate seasonal distribution of bycatch on the eastern part of Georges Bank in relation to sea scallop meat weight yield. Additional objectives include testing of a modified scallop dredge bag design to reduce flatfish bycatch and collecting biological samples to examine scallop meat quality and yellowtail flounder liver disease. Project investigators working on this project would also work with New Hampshire Fish and Game (NHFG) and the Atlantic Offshore Lobstermen's Association (AOLA) to tag female lobsters.

To enable this research, CFF is requesting exemptions for eight commercial fishing vessels from the Atlantic sea scallop days-at-sea (DAS) allocations at 50 CFR 648.53(b); crew size restrictions at § 648.51(c); observer program requirements at § 648.11(g); Closed Area II (CAII) scallop gear restrictions specified at § 648.81(b); and access area program requirements at § 648.59(a)(1)-(3), (b)(2), (b)(4), and Closed Area II Scallop Access Area Seasonal Closure at § 648.60(d)(2). CFF has also requested that vessels be exempt from possession limits and minimum size requirements specified in part 648, subsections B and D through O for biological sampling, and § 697.20 for lobster sampling and tagging purposes only.

Participating vessels would conduct scallop dredging from August 2018 through June 2019. Vessels would conduct a total of eight 7-day trips, for a total of 56 DAS. Closed Area II Access Area tows would take place in the central portion situated below the Closed Area II Habitat Closure Area, including the Atlantic Sea Closed Area II Scallop Access Area Seasonal Closure. Open area tows would be conducted on the western and southern boundaries of Closed Area II. The applicant also requested to conduct tows inside the Closed Area II Habitat Closure Area. This area remains closed to bottom-tending mobile gear to protect sensitive benthic habitat under Omnibus Habitat Amendment II. Consequently, NMFS does not intend to support the applicant's request to access the Habitat Closure Area.

There is a potential for gear conflict with lobster gear in the central portion of Closed Area II. In an effort to help mitigate gear interactions, CFF would distribute the time and location of stations to the lobster industry, work only during daylight hours, post an extra lookout to avoid gear, and actively avoid tangling in stationary gear. The project would work in cooperation in with NHFG and AOLA to tag lobsters with the primary goal of documenting their movement on and off Georges Bank. The applicant states that data from the tagging project could also help answer questions of lobster discard mortality in the scallop fishery.

All tows would be conducted with two 15-foot (4.6-m) turtle deflector dredges for a duration of 30 minutes using an average tow speed of 4.8 knots. One dredge would be rigged with a 7-row apron and twine top hanging ratio of 2:1, while the other dredge would be rigged with a 5-row, extended link apron and 1.5:1 twine top hanging ratio. Both dredge frames would be rigged with identical rock and tickler chain configurations, 10-inch (25.4-cm) twine top, and 4-inch (10.2-cm) ring bag. Gear comparison data will help improve efforts to reduce scallop dredge bycatch. Dredge gear would conform to scallop gear regulations.

For all tows, the entire sea scallop catch would be counted into baskets and weighed. One basket from each dredge would be randomly selected, and the scallops would be measured in 5-milimeter increments to determine size selectivity. All finfish catch would be sorted by species and then counted and measured. Weight, sex, and reproductive state would be determined for a random subsample (n=10) of yellowtail, winter, and windowpane flounders. Lobsters would be measured, sexed, and evaluated for damage and shell disease. No catch would be retained for longer than needed to conduct sampling, and no finfish or lobsters would be landed for sale. All catch estimates for the project are listed in Table 1, below.

Table 1—Coonamessett Farm Foundation Georges Bank Scallop Research Project
Common name | Scientific name | Estimated weight (lb) * | Estimated weight (kg)
Sea Scallop | Placopecten magellanicus | 33,103 | 15, 015
Yellowtail Flounder | Limanda ferruginea | 1,097 | 498
Winter Flounder | Pseudopleuronectes americanus | 1,605 | 728
Windowpane Flounder | Scophthalmus aquosus | 5,656 | 2,566
Summer Flounder | Paralichthys dentatus | 1,886 | 855
Fourspot Flounder | Paralichthys oblongus | 148 | 67
American Plaice | Hippoglossoides platessoides | 180 | 82
Grey Sole | Glyptocephalus cynoglossus | 24 | 11
Haddock | Melanogrammus aeglefinus | 116 | 53
Atlantic Cod | Gadus morhua | 199 | 90
Monkfish | Lophius americanus | 16,839 | 7,638
Spiny Dogfish | Squalus acanthias | 173 | 78
Barndoor Skates | Dipturus laevis | 2,217 | 1,006
NE Skate Complex (excluding barndoor skate) | Leucoraja erinacea, Leucoraja ocellata | 127,055 | 57,631
American lobster | Homarus americanus | 1,000 **
* Weights estimated using catch from a similar 2016 project.
** Number of individual animals estimated to be caught.

The applicant states that the exemptions are necessary to allow them to conduct experimental dredge towing without being charged DAS, as well as deploy gear in areas that are currently closed to scallop fishing. Participating vessels need crew size waivers to accommodate science personnel. Exemptions from possession limits would allow researchers to sample finfish and lobster catch that exceeds possession limits or prohibitions. The project would be exempt from the sea scallop observer program requirements because activities conducted on the trip are not consistent with normal fishing operations. Researchers from CFF will accompany each trip taken under the EFP. The goal of the proposed work is to provide information on spatial and temporal patterns in bycatch rates in the scallop fishery, with the objective of identifying mechanisms to mitigate bycatch. The data collected would enhance understanding of bycatch and scallop yield as they relate to access and open area management.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: July 18, 2018.
Jennifer M. Wallace,
Acting Director, Office of Sustainable Fisheries, National Marine Fisheries Service.

[FR Doc. 2018-15724 Filed 7-20-18; 8:45 am]

BILLING CODE 3510-22-P